DEPARTMENT OF COMMERCE

National Institute of Standards and Technology

Notice of Jointly Owned Invention Available for Licensing

AGENCY: National Institute of Standards and Technology, Commerce

SUMMARY: The invention listed below is jointly owned by the U.S. Government, as represented by the Department of Commerce, and the U.S. Navy. The Department of Commerce's interest in the invention is available for non-exclusive licensing, in accordance with 35 U.S.C. 207 and 37 CFR Part 404 to achieve expeditious commercialization of results of federally funded research and development.

FOR FURTHER INFORMATION CONTACT: Technical and licensing information on this invention may be obtained by writing to: National Institute of Standards and Technology, Office of Technology Partnerships, Attn: Mary Clague, Building 820, Room 213, Gaithersburg, MD 20899. Information is also available via telephone: 301-975-4188, fax 301-869-2751, or e-mail: mary.clague@nist.gov. Any request for information should include the NIST Docket number or Patent number and title for the invention as indicated below.

The invention available for licensing is:

[Docket Number 05-009US]

Title: Method of Stabilization of Functional Nanoscale Pores for Device Applications.

Abstract: The invention comprises a structure comprising a membrane of a compound spanning an aperture. The compound comprises a hydrophilic head group, an aliphatic tail group, and a polymerizable or polymerized functional group.

The invention further comprises a method of forming a structure comprising: providing a solution of a compound and a chamber comprising a partition having an aperture; placing a quantity of an aqueous liquid into the chamber, such that the liquid does not cover any part of the aperture; placing the solution on the top surface of the liquid; and raising the solution to a point above the aperture to form a membrane of the compound across the aperture. The compound comprises a hydrophilic head group and an aliphatic tail group and comprises a polymerizable functional group in an organic solvent.

Dated: September 13, 2006.
James E. Hill,
Acting Deputy Director.

[FR Doc. E6-15543 Filed 9-18-06; 8:45 am]

BILLING CODE 3510-13-P